DEPARTMENT OF HOMELAND SECURITY

Federal Emergency Management Agency

[Docket ID FEMA-2015-0001; Internal Agency Docket No. FEMA-B-1503]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 22, 2015.
Roy E. Wright,
Deputy Associate Administrator for Mitigation, Department of Homeland Security, Federal Emergency Management Agency.

State and county | Location and case No. | Chief executive officer of community | Community map repository | Online location of letter of map revision | Effective date of modification | Community No.
Idaho:
Blaine | (Unincorporated Areas) (15-10-0206P) | Mr Lawrence Schoen, Chairman, Blaine County Board of Commissioners, 206 1st Avenue South, Suite 300, Hailey, ID 83333 | Blaine County Planning and Zoning, 219 First Avenue, Suite 208, Hailey, ID 83333 | http://www msc fema gov/lomc | July 2, 2015 | 165167
Teton | City of Driggs (14-10-1657P) | The Honorable Hyrum Johnson, Driggs City Hall, P O Box Office Box 48, Driggs, ID 83422 | 89N Main Street, Suite 6, Driggs, ID 83422 | http://www msc fema gov/lomc | July 3, 2015 | 160166
Teton | Teton County (14-10-1657P) | The Honorable Bill Leake, Chairman, County Commissioners, Teton County Courthouse, 150 Courthouse Drive, Driggs, ID 83422 | Bruce Nye, 89 N Main Street, Suite 6, Driggs, ID 83422 | http://www msc fema gov/lomc | July 3, 2015 | 160230
Illinois:
Will | City of Naperville (15-05-1166P) | The Honorable A George Pradel, Mayor, City of Naperville, 400 South Eagel Street, Naperville, IL 60540 | City Hall, 400 South Eagle Street, Naperville, IL 60540 | http://www msc fema gov/lomc | July 2, 2015 | 170213
Will | Will County (15-05-1166P) | The Honorable Lawrence Walsh, Will County Executive, 302 North Chicago Street, Joliet, IL 60432 | Will County Land Use, 58 East Clinton Street, Suite 500, Joliet, IL 60432 | http://www msc fema gov/lomc | July 2, 2015 | 170695
Indiana:
Hamilton | City of Carmel (14-05-1139P) | The Honorable James Brainard, Mayor, City of Carmel, City Hall, One Civic Square, Carmel, IN 46032 | City of Carmel Department of Community Services, One Civic Square, Carmel, IN 46032 | http://www msc fema gov/lomc | June 19, 2015 | 180081
Marion | City of Indianapolis (14-05-1139P) | The Honorable Gregory A Ballard, Mayor, City of Indianapolis, 2501 City-County Building, 200 East Washington Street, Indianapolis, IN 46204 | City-County Building, 200 East Washington Street, Indianapolis, IN 46204 | http://www msc fema gov/lomc | June 19, 2015 | 180159
Kansas:
Johnson | City of Overland Park (14-07-1371P) | The Honorable Carl Gerlach, Mayor, City of Overland Park, 8500 Santa Fe Drive, Overland Park, KS 66212 | Community Map Repository, City of Overland Park, c/o Community Map Repository, 8500 Santa Fe Drive, Overland Park, KS 66212 | http://www msc fema gov/lomc | June 25, 2015 | 200174
Minnesota:
Hennepin | City of Brooklyn Park (14-05-9322P) | The Honorable Jeffrey Lunde, Mayor, City of Brooklyn Park, 5200 85th Avenue North, Brooklyn Park, MN 55443 | Planning and Zoning, Department, 5200 8th Avenue North, Brooklyn Park, MN 55443 | http://www msc fema gov/lomc | June 26, 2015 | 270152
Oregon:
Baker | City of Baker (15-10-0084P) | The Honorable Kim Mosier, Mayor, City of Baker, P O Box 650, 1655 First Street, Baker, OR 97814 | City Hall, 1655 1st Street, Baker, OR 97814 | http://www msc fema gov/lomc | May 26, 2015 | 410002
Baker | (Unincorporated Areas) (15-10-0084P) | The Honorable Bill Harvey, Commission Chair, Baker County, 1995 Third Street, Baker, OR 97814 | Court House, 1995 3rd Street, Baker, OR 97814 | http://www msc fema gov/lomc | May 26, 2015 | 410001
Deschutes | (Unincorporated Areas) (15-10-0345P) | The Honorable Tom Anderson, Deschutes County Administrator, 1300 NW Wall Street, Suite 200, Bend, OR 97701 | Deschutes County Courthouse, 1164 NW Bond Street, Bend, OR 97701 | http://www msc fema gov/lomc | June 6, 2015 | 410055
Jackson | City of Medford (15-10-0236X) | The Honorable Gary Wheeler, Mayor, City of Medford, 411 West 8th Street, Medford, OR 97501 | Building Safety Department, 200 South Ivy Street, Medford, OR 97501 | http://www msc fema gov/lomc | June 4, 2015 | 410096
Tillamook | Tillamook County (14-10-1727P) | Mr Tim Josi, Board of County Commissioners, Tillamook County, 201 Laurel Avenue, Tillamook, OR 97141 | Courthouse, 201 Laurel Avenue, Tillamook, OR 97141 | http://www msc fema gov/lomc | June 8, 2015 | 410196
Virginia: Loudoun | (Unincorporated Areas) (15-03-0229P) | Mr Scott K York, Chairman, Board of Supervisors, P O Box 7000, 1 Harrison Street, S E , 5th Floor, Leesburg, VA 20177 | Loudoun County Building, Building and Development Department, 1 Harrison Street, S E , Leesburg, VA 20177 | http://www msc fema gov/lomc | May 15, 2015 | 510090
Wisconsin: Outagamie | (Unincorporated Areas) (15-05-1349P) | The Honorable Thomas M Nelson, Outagamie County Executive, County Administration Building, 410 South Walnut Street, Appleton, WI 54911 | County Administration Building, 410 South Walnut Street, Appleton, WI 54911 | http://www msc fema gov/lomc | June 24, 2015 | 550302

[FR Doc. 2015-10532 Filed 5-5-15; 8:45 am]

BILLING CODE 9110-12-P